DEPARTMENT OF COMMERCE

National Oceanic and Atmospheric Administration

RIN 0648-BC09

Atlantic Highly Migratory Species; Notice of Public Scoping Meetings

AGENCY: National Marine Fisheries Service (NMFS), National Oceanic and Atmospheric Administration (NOAA), Commerce.

ACTION: Notice of public scoping meeting.

SUMMARY: NMFS has scheduled an additional scoping meeting for Amendment 7 to the 2006 Consolidated Atlantic Highly Migratory Species Fishery Management Plan, which will focus on management issues related to Atlantic bluefin tuna. A Notice of Intent published on April 23, 2012, which notified the public that NMFS intended to hold public scoping meetings and that it anticipated preparing a draft environmental impact statement. That Federal Register document provided the public with specific dates and times for four scheduled scoping meetings. This notice notifies the public of another scoping meeting on Amendment 7 in Portland, ME.

DATES: The Portland, ME, scoping meeting will be held on June 18, 2012.

ADDRESSES: The Amendment 7 public scoping meeting will be held in Portland, ME, at the Holiday Inn by the Bay. See supplementary information below for further details.

FOR FURTHER INFORMATION CONTACT: Tom Warren or Brad McHale, 978-281-9260.

SUPPLEMENTARY INFORMATION: NMFS published a Notice of Intent on April 23, 2012 (77 FR 24161), which notified the public of its intent to hold public scoping meetings and that it anticipated preparing a draft environmental impact statement, and requested comments. The intent of the public comment and scoping meetings is to determine the scope and significance of issues to be analyzed in a potential proposed amendment to the 2006 Consolidated Highly Migratory Species Fishery Management Plan and any associated environmental impact statement on management measures for Atlantic bluefin tuna. The public scoping process will help NMFS determine if existing measures are the best means of achieving certain management objectives for bluefin tuna and providing flexibility for future management, consistent with relevant Federal laws. NMFS also announced the availability of a scoping document describing measures for potential inclusion in a proposed Amendment, and solicited public comment on the objectives and management options. Written comments on the Notice of Intent and the scoping document must be received on or before July 15, 2012.

The April 23, 2012 Notice of Intent included the specific location, date, and time of four scoping meetings, and the location and approximate time of three NMFS consultations with regional fishery management councils (Councils), during their June meetings (Mid-Atlantic Fishery Management Council; New England Fishery Management Council, South Atlantic Fishery Management Council), and more detailed background information. That information is not repeated here.

Since the publication of the Notice of Intent, NMFS decided to schedule an additional scoping meeting that would be held in conjunction with the New England Fishery Management Council meeting in Portland, Maine, to provide additional opportunity for public input. The relevant information is provided below:

Date | Time | Meeting locations | Address
June 18, 2012 | 6:30-9 p.m. | In Association with the New England Fishery Management Council Meeting Portland, ME | Holiday Inn by the Bay, 88 Spring Street, Portland, ME 04101, 800-345-5050.

In addition to this Federal Register notice, NMFS will notify the public of this meeting via email, and the following Web site: www.nmfs.noaa.gov/sfa/hms/breakingnews.htm.

Special Accommodations

The meetings are physically accessible to people with disabilities. Requests for sign language interpretation or other auxiliary aids should be directed to Tom Warren (see FOR FURTHER INFORMATION CONTACT) at least 7 days prior to the meeting.

Dated: June 4, 2012.
Carrie D. Selberg,
Acting Deputy Director, Office of Sustainable Fisheries, National Marine Fisheries Service.

[FR Doc. 2012-13985 Filed 6-7-12; 8:45 am]

BILLING CODE 3510-22-P